DEPARTMENT OF JUSTICE

Antitrust Division

Notice Pursuant to the National Cooperative Research and Production Act of 1993—Auto Body Consortium, Inc.—“Hot Metal Gas Forming” (“HMGF”)

Notice is hereby given that, on July 19, 2002, pursuant to Section 6(a) of the National Cooperative Research and Production Act of 1993, 15 U.S.C. 4301 et seq. (“the Act”), Auto Body Consortium, Inc.—“Hot Metal Gas Forming” (“HMGF”) has filed written notifications simultaneously with the Attorney General and the Federal Trade Commission disclosing changes in its membership status. The notifications were filed for the purpose of extending the Act's provisions limiting the recovery of antitrust plaintiffs to actual damages under specified circumstances. Specifically, Antarum Institute, Ann Arbor, MI has merged with Auto Body Consortium, Inc., Ann Arbor, MI and assumed its membership in the venture. Also, Temper Incorporated, Rockford, MI has been added as a party to this venture. In addition, Tower Automotive, Milwaukee, WI and Troy Design and Manufacturing, Medford, MI have been dropped as parties to this venture.

No other changes have been made in either the membership or planned activity of the group research project. Membership in this group research project remains open, and Auto Body Consortium, Inc.—“Hot Metal Gas Forming” (“HMGF”) intends to file additional written notification disclosing all changes in membership.

On December 21, 1998, Auto Body Consortium, Inc.—“Hot Metal Gas Forming” (“HMGF”) filed its original notification pursuant to Section 6(a) of the Act. The Department of Justice published a notice in the Federal Register pursuant to Section 6(b) of the Act on February 18, 1999 (64 FR 8124).

The last notification was filed with the Department on March 8, 2002. A notice was published in the Federal Register pursuant to Section 6(b) of the Act on April 4, 2002 (67 FR 16124).

Constance K. Robinson,
Director of Operations, Antitrust Division.

[FR Doc. 02-20408 Filed 8-12-02; 8:45 am]

BILLING CODE 4410-11-M